DEPARTMENT OF THE INTERIOR

National Park Service

Notice of Inventory Completion: University of Denver Department of Anthropology and Museum of Anthropology, Denver, CO; Correction

AGENCY: National Park Service, Interior.

ACTION: Notice; correction.

Notice is here given in accordance with the Native American Graves Protection and Repatriation Act (NAGPRA), 25 U.S.C. 3003, of the completion of an inventory of human remains and associated funerary objects in the possession of the University of Denver Department of Anthropology and Museum of Anthropology, Denver, CO.

This notice is published as part of the National Park Service's administrative responsibilities under NAGPRA, 25 U.S.C. 3003 (d)(3). The determinations in this notice are the sole responsibility of the museum, institution, or Federal agency that has control of the cultural items. The National Park Service is not responsible for the determinations in this notice.

A detailed assessment of the human remains was made by the University of Denver Department of Anthropology and Museum of Anthropology professional staff in consultation with representatives of the U.S. Department of Agriculture, Forest Service; U.S. Department of the Interior, Bureau of Indian Affairs; U.S. Department of the Interior, Bureau of Land Management; Hopi Tribe of Arizona; Jicarilla Apache Nation, New Mexico; Navajo Nation, Arizona, New Mexico & Utah; Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico. The museum also sent reports and solicited feedback via telephone and correspondence with representatives from Colorado River Indian Tribes of the Colorado River Indian Reservation, Arizona and California; Pueblo of Picuris, New Mexico; Pueblo of San Felipe, New Mexico; Pueblo of San Ildefonso, New Mexico; Pueblo of Santo Domingo, New Mexico; and Ysleta Del Sur Pueblo of Texas.

This notice corrects a Notice of Inventory Completion published in the Federal Register of October 9, 2001 (FR Doc 01-25140, pages 51472-51474) by deleting paragraphs 4-6, and 11-12, and substituting paragraphs 7-10 and 13-15. The original notice is corrected because after further consideration of museum records, consultation with tribal representatives and Federal agency officials, the controller for a minimum of two individuals of the original nine individuals described in the notice was misattributed and the cultural affiliation for the remaining seven individuals was incorrect.

In consultation with the U.S. Department of Agriculture, Forest Service; U.S. Department of the Interior, Bureau of Indian Affairs; and U.S. Department of the Interior, Bureau of Land Management, the museum has determined that control of the human remains and associated funerary objects in paragraphs 11 and 12 is misattributed for DU 6015 and DU 6066 per 43 CFR 10.2 (a)(3)(ii), see the Notice of Inventory Completion published in the Federal Register on August 21, 2008, (FR Doc E8-19319, pages 49485-49486), published by the U.S. Department of Agriculture, San Juan National Forest, Durango, CO. The museum has also determined that the cultural affiliation conclusions for human remains and associated funerary objects referenced in the notice are incorrect as defined at 25 U.S.C. 3001 (2). Based on this information, paragraphs 11 and 12 are deleted from the original notice of October 9, 2001, (FR Doc 01-25140, pages 51472-51474). Further discussions with the U.S. Department of the Interior, Bureau of Indian Affairs are taking place regarding the human remains identified as DU UT W: 10:2, and a separate notice will be published with that determination.

After October 9, 2001, museum officials contracted a research archeologist and conducted additional consultations with tribal representatives. After further consideration of the evidence and tribal input, museum officials have determined that the cultural affiliation of the remaining seven individuals and associated funerary objects are incorrect as defined at 25 U.S.C. 3001 (2).

Museum officials have determined that the human remains representing a minimum of four individuals referenced in paragraphs 4-6 (DU6002, DU6180, DU1995.1.7a-b, and DU CO Y:6:15) taken from the San Luis Valley, CO, are human remains that are of Native American ancestry, but that there is not sufficient available evidence that can lead to a reasonable assignment of cultural affiliation, and are therefore culturally unidentifiable. Museum officials have determined that without further information regarding archeological context and dating or material culture, the evidence surrounding the human remains does not provide enough data to assign cultural affiliation. The San Luis Valley is an area that was visited and inhabited by a number of tribes over time and the evidence does not provide definitive clues. This conclusion was supported in tribal consultation and by Douglas Bowman, Southwestern archeologist contracted with the Ute Mountain Tribe of the Ute Mountain Reservation, Colorado, New Mexico & Utah. Based on this information, paragraphs 4-6 are deleted from the original notice of October 9, 2001 (FR Doc 01-25140, pages 51472-51474).

Museum officials have determined that the human remains representing a minimum of three individuals referenced in paragraphs 7-10 (DU CO X:16:12 and DU CO V:9:GEA) have a cultural affiliation that can be narrowed to the present-day Pueblo tribes. The original notice of October 9, 2001 (FR Doc 01-25140, pages 51472-51474) is corrected by replacing paragraphs 7-10 with the following:

In 1950, human remains representing one individual (catalog number DU CO X:16:12) were recovered from site 5CN26, Conejos County, CO, probably by Harry Christopher Meyers, Jr. who recorded the site card and conducted a survey of the area for his master's thesis. Mr. Meyers' thesis is on file at the University of Denver, Department of Anthropology, dated May 1950. In his thesis, Mr. Meyers thanks Mr. Mercedes Ortiz, of Conejos, CO, for his aid in “the survey” of portions of the San Luis Valley. Mr. Ortiz is likely a local land owner who acted as a guide. Although the thesis provides a likely contextual framework for the areas examined and the types of sites recorded, site 5CN26 was recovered in August 1950 and is not referenced in any report. No known individual was identified. The nine associated funerary objects are seven black-on-white sherds, one obsidian core, and one chipped stone.

The site card describes a cave with an opening onto a flat plain, dropping down over 10 feet. The interior of the cave is reported to consist of four rooms containing dry laid stone walls, lithic debitage, and pottery sherds. The main, or upper room, is described as opening directly off of the opening. Its walls were apparently about 2 1/2 feet high. The three other rooms appear to be contiguous, extending back inside the cave. An attempt to relocate site 5CN26 was undertaken by an unknown individual at an unknown date (presumably after the mid 1980s based on the form used). Notes of this visit to the area are recorded on a Cultural Resource Reevaluation Form on file at the Colorado Office of Archaeology and Historic Preservation. The researcher notes that the legal location data on the old site card was poor, so the southern half of the listed section and the northern half of the neighboring section were extensively searched, but “no evidence of the site could be found.”

Black-on-white pottery indicates this site is ancestral Puebloan. The scientific literature provides significant evidence of cultural affiliation between ancestral Puebloan culture and the Pueblos of today. Mr. Meyers' thesis work was specifically looking for Puebloan sites. Additionally, a likely source for the obsidian is New Mexico, which further supports a Puebloan affiliation.

At an unknown date, human remains representing two individuals (catalog number DU CO V:9:GEA) were recovered from a site at the edge of McElmo Canyon, Montezuma County, CO, 20 miles northwest of Mesa Verde, by Faye Conklin, a graduate of the University of Denver. No known individuals were identified. The 50 associated funerary objects are 1 black-on-white pottery bowl, 1 black-on-white pottery bowl fragment, 1 black-on-white pottery jar fragment, 25 black-on-white sherds, 3 redware sherds, 1 nonhuman bone, 4 nonhuman bone fragments, 1 piece of wood, 8 pieces of cordage, 3 beans, and 2 corn kernels.

Black-on-white pottery, beans, and corn indicate this site is ancestral Puebloan. The scientific literature provides significant evidence of cultural affiliation between ancestral Puebloan culture and the Pueblos of today.

Based on the preponderance of evidence, including archeology, architecture, material culture, oral traditions, and expert opinion, officials of the University of Denver Museum of Anthropology and Museum of Anthropology have reasonably determined that the Native American human remains (catalog numbers DU CO X:16:12 and U CO V:9:GEA) are ancestral Puebloan. Descendants of ancestral Puebloan culture are members of the present-day tribes of the Hopi Tribe of Arizona; Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

The original notice of October 9, 2001, (FR Doc 01-25140, pages 51472-51474) is corrected by replacing paragraphs 13-15 with the following:

Officials of the University of Denver Department of Anthropology and Museum of Anthropology have determined that, pursuant to 25 U.S.C. 3001 (9-10), the human remains described above represent the physical remains of a minimum of three individuals of Native American ancestry. Officials of the University of Denver Department of Anthropology and Museum of Anthropology also have determined that, pursuant to 25 U.S.C.3001 (3)(A), the 59 objects described above are reasonably believed to have been placed with or near the individual human remains at the time of death or later as part of the death rite or ceremony. Lastly, officials of the University of Denver Department of Anthropology and Museum of Anthropology have determined that, pursuant to 25 U.S.C. 3001 (2), the preponderance of the evidence supports a relationship of shared group identity that can be reasonably traced between the Native American human remains and associated funerary objects and the Hopi Tribe of Arizona; Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

Representatives of any other Indian tribe that believes itself to be culturally affiliated with the human remains and associated funerary objects should contact Dr. Christina Kreps, University of Denver Museum of Anthropology, Sturm 146, Denver, CO 80208, telephone (303) 871-2688, before November 20, 2008. Repatriation of the human remains and associated funerary objects to the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico may proceed after that date if no additional claimants come forward.

The University of Denver Department of Anthropology and Museum of Anthropology is responsible for notifying the U.S. Department of Agriculture, Forest Service; U.S. Department of the Interior, Bureau of Indian Affairs; U.S. Department of the Interior, Bureau of Land Management; Colorado River Indian Tribes of the Colorado River Indian Reservation, Arizona and California; Hopi Tribe of Arizona; Jicarilla Apache Nation, New Mexico; Navajo Nation, Arizona, New Mexico & Utah; Ohkay Owingeh, New Mexico (formerly Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Skull Valley Band of Goshute Indians of Utah; Southern Ute Indian Tribe of the Southern Ute Reservation, Colorado; Ute Indian Tribe of the Uintah & Ouray Reservation, Utah; Ute Mountain Tribe of the Ute Mountain Reservation, Colorado, New Mexico & Utah; Ysleta Del Sur Pueblo of Texas; and Zuni Tribe of the Zuni Reservation, New Mexico that this notice has been published.

Dated: October 6, 2008.
Sherry Hutt,
Manager, National NAGPRA Program.

[FR Doc. E8-24961 Filed 10-20-08; 8:45 am]

BILLING CODE 4312-50-S